DEPARTMENT OF EDUCATION

[CFDA No: 84.184D]

Office of Safe and Drug-Free Schools—Demonstration Grants for Student Drug Testing—Notice Inviting Applications for New Awards for Fiscal Year (FY) 2003

Purpose of Program: This program awards grants to local educational agencies (LEAs) and public and private entities, to develop or enhance, implement, and evaluate school-based drug testing programs for students.

For FY 2003 the competition for new awards focuses on projects designed to meet the priorities we describe in the PRIORITIES section of this application notice.

Eligible Applicants: LEAs and public and private entities.

Applications Available: July 11, 2003.

Deadline for Transmittal of Applications: August 20, 2003.

Deadline for Intergovernmental Review: September 19, 2003.

Estimated Available Funds: The Department expects to make available $2,000,000 for this program for FY 2003.

Estimated Range of Awards: $200,000-$400,000.

Estimated Average Size of Awards: $300,000.

Estimated Number of Awards: 7.

Note: The Department is not bound by any estimates in this notice.

Project Period: Up to 36 months.

Applicable Regulations: The Education Department General Administrative Regulations (EDGAR) in 34 CFR parts 74, 75, 77, 79, 80, 81, 82, 85, 86, 97, 98, and 99.

Other Requirements

Participation by Private School Children and Teachers

Entities receiving a grant under the Demonstration Grants for Student Drug Testing Program are required to provide for the equitable participation of private school children and their teachers or other educational personnel. In order to ensure that grant program activities address the needs of private school children, timely and meaningful consultation with appropriate private school officials must occur during the design and development of the program. Administrative direction and control over grant funds must remain with the grantee.

Maintenance of Effort

An LEA may receive a grant under the Demonstration Grants for Student Drug Testing Program only if the State educational agency finds that the combined fiscal efforts per student or the aggregate expenditures of the agency and the State with respect to the provisions of free public education by the agency for the preceding fiscal year was not less than 90 percent of the combined fiscal effort or aggregate expenditures for the second preceding fiscal year.

School-Based Programs

Applicants other than LEAs must demonstrate that they have established a partnership with one or more LEAs to carry out the program. This partnership must be demonstrated by submitting a partnership agreement signed by the superintendent or an authorized representative of the participating LEA. Letters of support for the proposed project are not sufficient to demonstrate the required partnership.

Assurance

Applicants must provide an assurance that legal counsel has reviewed the proposed program and advised that the program activities do not appear to violate established constitutional principles or State and Federal requirements related to implementing a student drug testing program.

SUPPLEMENTARY INFORMATION:

Additional Awards

Contingent upon the availability of funds, we may make additional awards in FY 2004 from the rank-ordered list of unfunded applications from this competition.

Participation of Faith-based Organizations

Faith-based organizations are eligible to apply for grants under this competition provided they meet all statutory and regulatory requirements.

Definition

Drug. The term drug includes controlled substances; the illegal use of alcohol and tobacco; and the harmful, abusive, or addictive use of substances, including inhalants and anabolic steroids.

Absolute Priority

We will award grants to LEAs and public and private entities to develop or enhance, implement, and evaluate school-based drug testing programs for students. Any random drug testing program conducted with funds awarded under this competition must be limited to one or more of the following: (1) Students who participate in the school's athletic program; (2) students who are engaged in competitive, extracurricular school-sponsored activities; and (3) students who, along with their parents or guardian, have consented or volunteered to participate in a random drug testing program.

In order to be eligible for an award, applicants must:

(1) Identify a target population and demonstrate a significant need for drug testing within the target population;

(2) Explain how the proposed drug testing program will be part of a comprehensive drug prevention program in the schools to be served;

(3) Provide a comprehensive plan for referral to treatment or counseling of students identified as drug users through the testing program; and

(4) Provide a plan to ensure the confidentiality of drug testing results.

For FY 2003, this priority is an absolute priority. Under 34 CFR 75.105(c)(3), we will consider only applications that meet this priority.

Competitive Preference Priority

In order to determine whether the drug testing projects supported under this program produce meaningful effects on student drug use, we have established a competitive preference priority within the absolute priority for this competition. We will award up to 10 additional points to applicants that propose experimental or quasi-experimental evaluation of projects. These points are in addition to any points the application earns under the selection criteria. The total number of points available for this competition is 110.

Evaluations using an experimental design are the strongest for determining program effectiveness. Thus, the project preferably uses an experimental design. An evaluation using an experimental design is one where subjects (students, teachers, classrooms, or schools) are randomly assigned to receive the program being evaluated or to be in a control group that does not receive the program.

If random assignment is not feasible, the project may employ a quasi-experimental design with carefully matched comparison conditions. This alternative design attempts to approximate a randomly assigned control group by matching subjects (students, teachers, classrooms, or schools) with non-participants possessing similar pre-program characteristics.

Data from reliable and valid measures of the intervention that the program intends to implement and of the outcomes that the program intends to affect, should be collected before and after participation in the program or the comparison condition.

Points awarded under this priority will be determined by the quality of the proposed evaluation. In determining the quality of the evaluation, we will consider the extent to which the applicant presents a feasible, credible plan that includes:

(1) The type of design to be used (random assignment or matched comparison);

(2) Outcomes to be measured;

(3) A discussion of how students, teachers, classrooms, or schools will be assigned to the program or matched for comparison with other students, teachers, classrooms, or schools; and

(4) A proposed evaluator, preferably independent, with the necessary background and technical expertise to carry out the proposed evaluation.

Applicants who apply for the competitive preference will have their applications reviewed separately by a panel of non-federal experts that includes at least one evaluation expert.

Performance Measures

The Secretary has established the following key performance measure for assessing the effectiveness of the Demonstration Grants for Student Drug Testing Program: The reduction of the incidence of drug use in the past month and past year. The Secretary has set an overall performance target that calls for the incidence of drug use by students in the target population to decline by five percent annually.

In applying the selection criteria that follow for “Quality of project design” and “Quality of the project evaluation,” the Secretary will take into consideration the extent to which the applicant demonstrates a strong capacity (1) To help achieve this target, and (2) to provide reliable data on this indicator.

Selection Criteria

The following selection criteria are used to evaluate applications for new grants under this competition. Together with the competitive preference priority, the maximum number of points that may be awarded is 110. The maximum score for each criterion or factor under that criterion is indicated in parentheses.

(1) Need for project. (20 points)

In determining the need for the proposed project, the following factor is considered:

The magnitude or severity of the problem to be addressed by the proposed project. (20 points)

Note: Under this criterion we will look for evidence that the applicant has conducted a student drug use survey or other needs assessment that demonstrates a significant need for drug testing in the target population.

(2) Significance. (20 points)

In determining the significance of the proposed project, the following factors are considered:

(a) The potential contribution of the proposed project to the development and advancement of theory, knowledge, and practices in the field of study. (10 points)

(b) The extent to which the proposed project involves the development or demonstration of promising new strategies that build on, or are alternatives to, existing strategies. (5 points)

(c) The potential for generalizing from the findings or results of the proposed project. (5 points)

(3) Quality of the project design. (30 points)

In determining the quality of the design of the proposed project, the following factors are considered:

(a) The extent to which the design of the proposed project reflects up-to-date knowledge from research and effective practice. (10 points)

(b) The extent to which the proposed project will establish linkages with other appropriate agencies and organizations providing services to the target population. (5 points)

(c) The quality of the proposed demonstration design and procedures for documenting project activities and results. (10 points)

(d) The extent to which the project demonstrates an exceptional approach to the priority established for the competition. (5 points)

(Note: Under this criterion we will look at the likelihood that the applicant's plan will lead to reductions in the incidence of drug use by students in the target population.)

(4) Management plan. (10 points)

In determining the quality of the management plan, the following factor is considered:

How the applicant will ensure that a diversity of perspectives are brought to bear in the operation of the proposed project, including those of parents, teachers, the business community, a variety of disciplinary and professional fields, recipients or beneficiaries of services, or others, as appropriate. (10 points)

(5) Quality of the project evaluation. (20 points)

In determining the quality of the evaluation, the following factors are considered:

(a) The extent to which the methods of evaluation provide for examining the effectiveness of project implementation strategies. (10 points)

(b) The extent to which the methods of evaluation include the use of objective performance measures that are clearly related to the intended outcomes of the project and will produce quantitative and qualitative data to the extent possible. (10 points)

(Note: Under this criterion, we will look for the applicant's plan to provide reliable data that measures declines in the incidence of drug use by students in the target population in the past month and in the past year.)

FOR APPLICATIONS AND FURTHER INFORMATION CONTACT: Heather Carkuff, U.S. Department of Education, Office of Safe and Drug-Free Schools, 400 Maryland Avenue, SW., Room 3E250, Washington, DC 20202-6450. E-mail: heather.carkuff@ed.gov. To download a copy of the application, visit the Web site for the Office of Safe and Drug-Free Schools at http://www.ed.gov/offices/OSDFS.

If you use a telecommunications device for the deaf (TDD), you may call the Federal Information Relay Service (FIRS) at 800/877-8339.

Individuals with disabilities may obtain this document in an alternative format (e.g., Braille, large print, audiotape, or computer diskette) on request to the program contact person listed under FOR APPLICATIONS AND FURTHER INFORMATION CONTACT.

Individuals with disabilities also may obtain a copy of the application package in an alternative format by contacting that person. However, the Department is not able to reproduce in an alternative format the standard forms included in the application package.

Waiver of Proposed Rulemaking

Under the Administrative Procedure Act (5 U.S.C. 553) the Department generally offers interested parties the opportunity to comment proposed regulations. Section 437(d)(2) of the General Education Provisions Act (GEPA), however, exempts from this rulemaking requirement those rules where the Secretary determines it would cause extreme hardship to the beneficiaries of the program that would be affected by those rules. The Secretary, in accordance with section 437(d)(2) of GEPA, has decided to issue these rules without first publishing them for public comment in order to ensure timely and high quality grant awards. These rules will apply only to grant applications submitted in FY 2003.

Pilot Project for Electronic Submission of Applications

In FY 2003, the U.S. Department of Education is continuing to expand its pilot project for electronic submission of applications to include additional formula grant programs and additional discretionary grant competitions. The Demonstration Grants for Student Drug Testing Program is one the programs included in the pilot project. If you are an applicant under this competition, you may submit your application to us in either electronic or paper format.

The pilot project involves the use of the Electronic Grant Application System (e-Application) portion of the Grants Administration and Payment System (GAPS). Users of e-Application will be entering data on-line while completing their applications. You may not e-mail a soft copy of a grant application to us. If you participate in this voluntary pilot project by submitting an application electronically, the data you enter on-line will be saved into a database. We request your participation in e-Application. We shall continue to evaluate its success and solicit suggestions for improvement.

If you participate in e-Application, please note the following:

• Your participation is voluntary.

• You will not receive any additional point value because you submit a grant application in electronic format, nor will we penalize you if you submit an application in paper format. When you enter the e-Application system, you will find information about its hours of operation.

• You may submit all documents electronically, including the Application for Federal Education Assistance (ED 424), Budget Information—Non-Construction Programs (ED 524), and all necessary assurances and certifications.

• After you electronically submit your application, you will receive an automatic acknowledgement, which will include a PR/Award Number (an identifying number unique to your application).

• Within three working days after submitting your electronic application, fax a signed copy of the Application for Federal Education Assistance (ED 424) to the Application Control Center after following these steps:

(1) Print ED 424 from the e-Application system.

(2) The institution's Authorizing Representative must sign this form.

(3) Place the PR/Award number in the upper right hand corner of the hard copy signature page of the ED 424.

(4) Fax the signed ED 424 to the Application Control Center at 202/260-1349.

• We may request that you give us original signatures on all other forms at a later date.

• Closing Date Extension in Case of System Unavailability: If you elect to participate in the e-Application pilot for the Demonstration Grants for Student Drug Testing Program and you are prevented from submitting your application on the closing date because the e-Application system is unavailable, we will grant you an extension of one business day in order to transmit your application electronically, by mail, or by hand delivery. For us to grant this extension—

(1) You must be a registered user of e-Application, and have initiated an e-Application for this competition; and

(2)(a) The e-Application system must be unavailable for 60 minutes or more between the hours of 8:30 a.m. and 3:30 p.m. (ET), on the deadline date; or (b) The e-Application system must be unavailable for any period of time during the last hour of operation (that is, for any period of time between 3:30 p.m. and 4:30 p.m. (ET)) on the deadline date. The Department must acknowledge and confirm these periods of unavailability before granting you an extension. To request this extension you must contact either (1) The person listed elsewhere in this notice under FOR FURTHER INFORMATION CONTACT or (2) the e-GRANTS help desk at 888/336-8930.

You may access the electronic grant application for the Demonstration Grants for Student Drug Testing Program: http://e-grants.ed.gov. We have included additional information about the e-Application pilot project (see Parity Guidelines Between Paper and Electronic Applications) in the application package.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 888/293-6498; or in the Washington, DC, area at 202/512-1530.

Note: The official version of this document is the document published in the Federal Register. Free Internet access to the official edition of the Federal Register and the Code of Federal Regulations is available on GPO Access at: http://www.access.gpo.gov/nara/.

Program Authority: 20 U.S.C. 7131.

Dated: July 7, 2003.
Eric G. Andell,
Deputy Under Secretary for Safe and Drug-Free Schools.

[FR Doc. 03-17536 Filed 7-10-03; 8:45 am]

BILLING CODE 4000-01-P